DEPARTMENT OF TRANSPORTATION

Federal Aviation Administration

Twenty-Eighth Meeting: RTCA Special Committee 206: Aeronautical Information and Meteorological Data Link Services

AGENCY: Federal Aviation Administration (FAA), U.S. Department of Transportation (DOT).

ACTION: Notice of RTCA Special Committee 206: Aeronautical Information and Meteorological Data Link Services.

SUMMARY: The FAA is issuing this notice to advise the public of the twenty-eighth meeting of RTCA Special Committee 206: Aeronautical Information and Meteorological Data Link Services

DATES: The meeting will be held February 6-10, 2012, from 8 a.m.-5 p.m.

ADDRESSES: The meeting will be held at the Doubletree Suites by Hilton Melbourne Beach Oceanfront, 1665 N. Highway A1A, Melbourne, Florida 32903

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 206, Aeronautical Information and Meteorological data Link Services. The agenda will include the following:

February 6, 2012

• Welcome, Introductions, and Administrative Remarks

• Approval of Previous Meeting Minutes

• Review and approve meeting agenda

• Introduce advisory and normal definitions

• Review proposed TOR changes

• ConUse Review

February 7, 2012

• ConUse Review

February 8, 2012

• SG1, SG2, and SG3 Meetings

February 9, 2012

• SG1, SG2, and SG3 Meetings

February 10, 2012

• Plenary Session

• Sub-Group 1 Report

• Sub-Group 2 Report

• Sub-Group 3 Report

• Action item review

• Future meeting plans and dates

• Plenary presentation selection process

• Approve advisory and normal definitions

• Approve proposed TOR changes and new or modified Sub-groups' roles and responsibilities

• Decision to release ConUse document for FRAC process

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 12, 2012.
John Raper,
Manager, Business Operations Branch, Federal Aviation Administration.

[FR Doc. 2012-1048 Filed 1-19-12; 8:45 am]

BILLING CODE 4910-13-P